DEPARTMENT OF HOMELAND SECURITY

Coast Guard

33 CFR Parts 100 and 165

[Docket No. USCG-2012-1036]

Safety Zones and Special Local Regulations; Recurring Marine Events in Captain of the Port Long Island Sound Zone

AGENCY: Coast Guard, DHS.

ACTION: Notice of enforcement of regulation.

SUMMARY: The Coast Guard will enforce special local regulations for one regatta and seven safety zones for five fireworks displays and two swim events in the Sector Long Island Sound area of responsibility on the dates and times listed in the tables below. This action is necessary to provide for the safety of life on navigable waterways during the events. During the enforcement period, no person or vessel may enter the regulated area or safety zones without permission of the Captain of the Port (COTP) Sector Long Island Sound or designated representative.

DATES: The regulations in 33 CFR 100.100 and 33 CFR 165.151 will be enforced during the dates and times that follow in the SUPPLEMENTARY INFORMATION section.

FOR FURTHER INFORMATION CONTACT: If you have questions on this notice, call or email Petty Officer Scott Baumgartner, Waterways Management Division, U.S. Coast Guard Sector Long Island Sound; telephone 203-468-4559, email Scott.A.Baumgartner@uscg.mil.

SUPPLEMENTARY INFORMATION: The Coast Guard will enforce the regulated area listed in 33 CFR 100.100 and safety zones listed in 33 CFR 165.151 on the specified dates and times as indicated in tables that follow. If the event is delayed by inclement weather, the regulation will be enforced on the rain date indicated in tables below. These regulations were published in the Federal Register on May 24, 2013 (78 FR 31402).

Table to § 100.100
1.7 Hartford Dragon Boat Regatta | • Date: August 17, 2013 from 7:30 a.m. until 5:30 p.m. and August 18, 2013 from 8:30 a.m. until 4:30 p.m.
| • Regulated area: All waters of the Connecticut River in Hartford, CT between the Bulkeley Bridge 41°46′10.10″ N, 072°39′56.13″ W and the Wilbur Cross Bridge 41°45′11.67″ N, 072°39′13.64″ W (NAD 83).

Table 1 to § 165.151
8.3 Old Black Point Beach Association Fireworks | • Date: August 17, 2013. • Rain Date: August 18, 2013.
| • Time: 8:30 p.m. to 10:30 p.m.
| • Location: Waters off Old Black Point Beach East Lyme, CT in approximate position, 41°17′34.9″ N, 072°12′55″ W (NAD 83).
8.6 Stamford Fireworks | • Date: August 29, 2013.
| • Rain date: August 30, 2013.
| • Time: 8 p.m. to 9:30 p.m.
| • Location: Waters of Stamford Harbor, off Kosciuszco Park, Stamford, CT in approximate position 41°01′48.46″ N, 073°32′15.32″ W (NAD 83).
8.8 Ascension Fireworks | • Date: August 17, 2013.
| • Rain Date: August 18, 2013.
| • Time: 9 p.m. to 10 p.m.
| • Location: Waters of the Great South Bay off The Pines, East Fire Island, NY in approximate position 40°40′07.47″ N, 073°04′31.73″ W (NAD 83).
9.3 Village of Island Park Labor Day Celebration Fireworks | • Date: August 31, 2013. • Rain Date: September 1, 2013.
| • Location: Waters off Village of Island Park Fishing Pier, Village Beach, NY in approximate position 40°36′30.95″ N, 073°39′22.23″ W (NAD 83).

Table 2 to § 165.151
1.1 Swim Across the Sound | • Date: August 3, 2013.
| • Time: 9 a.m. to 7 p.m.
| • Location: Waters of Long Island Sound, Port Jefferson, NY to Captain's Cove Seaport, Bridgeport, CT in approximate positions 40°58′11.71″ N, 073°05′51.12″ W, north-westerly to the finishing point at Captain's Cove Seaport 41°09′25.07″ N, 073°12′47.82″ W (NAD 83).
1.5 Stonewall Swim | • Date: August 3, 2013.
| • Time: 8:30 a.m. until 12:30 p.m.
| • Location: All navigable waters of the Great South Bay within a three mile long and half mile wide box connecting Snedecor Avenue in Bayport, NY to Porgie Walk in Fire Island, NY. Formed by connecting the following points. Beginning at 40°43′40.24″ N, 073°03′41.50″ W; then to 40°43′40.00″ N, 073°03′13.40″ W; then to 40°40′04.13 N, 073°03′43.81″ W; then to 40°40′08.30″ N, 073°03′17.70″ W; and ending at the beginning point 40°43′40.24″ N, 073°03′41.5″ W (NAD 83).

Under the provisions of 33 CFR 100.100 and 33 CFR 165.151, the regatta, fireworks displays and swim events listed above are established as a special local regulation or safety zones. During the enforcement period, persons and vessels are prohibited from entering into, transiting through, mooring, or anchoring within the regulated area or safety zones unless they receive permission from the COTP or designated representative.

This notice is issued under authority of 33 CFR part 100, 33 CFR part 165, and 5 U.S.C. 552(a). In addition to this notice in the Federal Register, the Coast Guard will provide the maritime community with advance notification of this enforcement period via the Local Notice to Mariners or marine information broadcasts. If the COTP determines that a regulated area need not be enforced for the full duration stated in this notice, a Broadcast Notice to Mariners may be used to grant general permission to enter the regulated area.

Dated: July 18, 2013.
E. J. Cubanski,
Captain, U.S. Coast Guard, Captain of the Port Sector Long Island Sound.

[FR Doc. 2013-18618 Filed 8-1-13; 8:45 am]

BILLING CODE 9110-04-P